DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2012 National Census Test.

OMB Control Number: None.

Form Number(s): Questionnaire: DA-1; Letters: DA-5(L), DA-16(L)(1), DA-16(L)(2), DA-17(L)(1), DA-17(L)(2), DA-17(L)(3); Reminder Postcards: DA-9, DA-9(2A), DA-9(2B), DA-9(2C); Envelopes: DA-5, DA-6A(IN), DA-6A(1)(IN), DA-8A; Internet Instruction Card: DA-33.

Type of Request: New collection.

Burden Hours: 16,668.

Number of Respondents: 80,000.

Average Hours per Response: 10 minutes.

Needs and Uses: The Census Bureau has committed to using the Internet as a primary response option in the 2020 Census. However, much research is needed throughout the next decade to develop and implement a successful, secure, and user-friendly online instrument. The Census Bureau must conduct a series of research projects and tests throughout this decade to fulfill its commitment to provide the public with an option to complete their 2020 Decennial Census questionnaire on the Internet. One of the first tests to support this planning effort is the 2012 National Census Test (NCT).

The 2012 NCT seeks to build on previous Internet data collection research in order to set the stage for the Internet testing cycle for the 2020 Census. The main objective is to test new, dynamic approaches for collecting the number of people in a household, which are not feasible on a paper questionnaire. The anticipated use of the Internet as a primary mode of self-response in the 2020 Census offers the unique opportunity to incorporate conditional residence probes. By making optimal use of electronic data collection for delivery of coverage probes, we can gain a better understanding of who was living in a household on Census Day, thereby greatly reducing (or potentially eliminating) the need for the costly Coverage Followup (CFU) operation. The goal is to optimize the residence rules presentation for the Internet mode and identify validated methods for determining residency. We will utilize a real-time, targeted, probing coverage reinterview conducted by telephone to evaluate the accuracy of within-household coverage by comparing the final household population roster for the Internet Test households to the final reinterview roster for the same households.

As a secondary objective of the 2012 NCT, the Census Bureau aims to study the relative response rates associated with various contact strategies under an Internet Push methodology, in an effort to obtain early response rate indicators for the 2020 Census. The 2012 Internet Test sets the stage for future testing by making important strides in obtaining a select subset of contact strategy options that can be validated in later mid-decade tests. Various contact strategies involving optimizing the Internet push strategy are proposed, such as implementing relatively less expensive reminders both before and after the questionnaire mailing, which builds off recent American Community Survey (ACS) results. Also included is the removal of the advance letter mailing, new motivational wording and varying the timing of the questionnaire mailing to optimize self-response.

Additionally, without impact to sample size, the 2012 NCT offers the opportunity to gain knowledge about how to optimize the presentation of the race and Hispanic origin questions.

Results from the 2010 Alternative Questionnaire Experiment reveal that the combination of the race and Hispanic origin question approach appears to be a promising strategy for collecting these data items. As an additional secondary objective, the Census Bureau plans to continue this research by implementing two versions of a combined race and Hispanic origin question as part of the 2012 NCT. In addition, this data collection will incorporate the use of predictive text to automate and streamline the race and Hispanic origin coding processes. This component allows for near-real-time data processing by increasing the speed of automated coding, thus reducing and/or eliminating back-end processing.

Affected Public: Individuals or households.

Frequency: One time.

Respondent's Obligation: Mandatory.

Legal Authority: Title 13, United States Code, Section 141, 193, and 225.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: May 2, 2012.
Glenna Mickelson,
Management Analyst, Office of the Chief Information Officer.

[FR Doc. 2012-10924 Filed 5-4-12; 8:45 am]

BILLING CODE 3510-07-P